DEPARTMENT OF JUSTICE

Drug Enforcement Administration

Manufacturer of Controlled Substances; Notice of Registration

By Notice dated May 25, 2011, and published in the Federal Register on June 3, 2011, 76 FR 32225, AMPAC Fine Chemicals LLC., Highway 50 and Hazel Avenue Building 05011, Rancho Cordova, California 95670, made application to the Drug Enforcement Administration (DEA) as a bulk manufacturer of the following basic classes of controlled substances:

Drug | Schedule
Thebaine (9333) | II
Poppy Straw Concentrate (9670) | II

The company is a contract manufacturer. In reference to Poppy Straw Concentrate the company will manufacture Thebaine intermediates for sale to its customers for further manufacture. No other activity for this drug code is authorized for registration.

No comments or objections have been received. DEA has considered the factors in 21 U.S.C. 823(a) and determined that the registration of AMPAC Fine Chemicals LLC., to manufacture the listed basic classes of controlled substances is consistent with the public interest at this time. DEA has investigated AMPAC Fine Chemicals LLC., to ensure that the company's registration is consistent with the public interest. The investigation has included inspection and testing of the company's physical security systems, verification of the company's compliance with state and local laws, and a review of the company's background and history. Therefore, pursuant to 21 U.S.C. 823(a), and in accordance with 21 CFR 1301.33, the above named company is granted registration as a bulk manufacturer of the basic classes of controlled substances listed.

Dated: December 20, 2011.
Joseph T. Rannazzisi,
Deputy Assistant Administrator, Office of Diversion Control, Drug Enforcement Administration.

[FR Doc. 2011-33400 Filed 12-28-11; 8:45 am]

BILLING CODE 4410-09-P